DEPARTMENT OF EDUCATION

[Docket No.: ED-2023-SCC-0192]

Agency Information Collection Activities; Submission to the Office of Management and Budget for Review and Approval; Comment Request; Entry Evaluation & Exit Evidence Forms

AGENCY: Office of the Secretary (OS), Department of Education (ED).

ACTION: Notice.

SUMMARY: In accordance with the Paperwork Reduction Act (PRA) of 1995, the Department is proposing a new information collection request (ICR).

DATES: Interested persons are invited to submit comments on or before September 12, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Cleveland Knight, 202-987-0064.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Entry Evaluation & Exit Evidence Forms.

OMB Control Number: 1894-NEW.

Type of Review: A new ICR.

Respondents/Affected Public: State, Local, and Tribal Governments.

Total Estimated Number of Annual Responses: 819.

Total Estimated Number of Annual Burden Hours: 2,927.

Abstract: ED will use the Entry Evidence ICR form and the Evaluation & Exit Evidence ICR form for discretionary grant programs that: (1) Use the standard ED 524-B Grant Performance Report form as approved by OMB. The use of the standard ED 524-B Grant Performance Report promotes the standardization and streamlining of ED discretionary grant performance reporting. These performance reporting components are necessary to standardize information collection about Entry evidence, and Evaluation & Exit evidence use in grant implementation and to ensure a better, more comprehensive understanding of the use of evidence from what is provided in a grant application to the actual implementation of the grant project.

Dated: August 8, 2024.
Stephanie Valentine,
PRA Coordinator, Strategic Collections and Clearance, Governance and Strategy Division, Office of Chief Data Officer, Office of Planning, Evaluation and Policy Development.

[FR Doc. 2024-18038 Filed 8-12-24; 8:45 am]

BILLING CODE 4000-01-P